DEPARTMENT OF JUSTICE

Notice of Lodging of Consent Decree Under the Clean Air Act

Notice is hereby given that on July 13, 2010, a proposed Consent Decree in United States v. Edgeboro Disposal, Inc., et al., Civil Action No. 3:10-cv-03541-FLW-TJB, was filed with the United States District Court for the District of New Jersey.

In this action, the United States sought penalties and injunctive relief for the Defendants' violations of the Clean Air Act, 42 U.S.C. 7411 et seq., and the New Jersey Air Pollution Control Act, N.J.S.A. 26:2C-1 et seq., at the Edgeboro landfill in East Brunswick, New Jersey.

To resolve the United States' claims, the Defendants will pay a penalty of $750,000 to the United States and New Jersey, and shall upgrade the Edgeboro Landfill Gas Collection and Control System, and operate that system in compliance with regulations promulgated pursuant to the Clean Air Act.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to either: United States v. Edgeboro Disposal, Inc., et al., Civil Action No. 3:10-cv-03541-FLW-TJB, or D.J. Ref. 90-5-2-1-09122. The Consent Decree may be examined at the Office of the United States Attorney, District of New Jersey, 970 Broad Street, Room 502, Newark, New Jersey 07102, and at the United States Environmental Protection Agency, 290 Broadway New York, New York 10007-1866. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check, payable to the U.S. Treasury, in the amount of $15.50 (25 cents per page reproduction cost), or, if by e-mail or fax, forward a check in the applicable amount to the Consent Decree Library at the stated address.

Maureen Katz,
Assistant Chief, Environmental Enforcement Section, Environment and Natural Resources Division.

[FR Doc. 2010-17601 Filed 7-19-10; 8:45 am]

BILLING CODE 4410-15-P